DEPARTMENT OF HEALTH AND HUMAN SERVICES

Centers for Disease Control and Prevention

[30Day-15-0765]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call Daniel Holcomb., the CDC Reports Clearance Officer, at (404) 639-5960 or send an email to omb@cdc.gov. Send written comments to CDC Desk Officer, Office of Management and Budget, Washington, DC 20503 or by fax to (202) 395-5806. Written comments should be received within 30 days of this notice.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written

Proposed Project

Fellowship Management System, OMB No. 0920-0765, expires 02/28/2015—Revision—Division of Scientific Education and Professional Development (DSEPD), Center for Surveillance, Epidemiology, and Laboratory Services (CSELS), Office of Public Health Scientific Services (OPHSS), Centers for Disease Control and Prevention (CDC).

Background and Brief Description

The Division of Scientific Education and Professional Development (DSEPD) requests an additional three years to continue CDC's use of the Fellowship Management System (FMS) for its electronic application, host site, and directory processes that allow individuals to apply to fellowships online, allow public health agencies to submit fellowship assignment proposals online, and track applicant and alumni information.

FMS was established to support making revisions to questions and instructions to accurately reflect evolving fellowship eligibility requirements, provide clarification of existing questions, and accommodate changing needs of the fellowship programs. This information collection request is a request for revisions to the current FMS. Revisions include features added that support the electronic submission (via file upload features) of transcripts and letters of recommendation in lieu of postal delivery; selected questions refined and new questions added to align with current fellowship eligibility requirements; and wordings of questions and instructions clarified in response to user feedback from current fellows, host sites, and alumni.

The mission of DSEPD is to improve health outcomes through a competent, sustainable, and empowered public health workforce. Professionals in public health, epidemiology, medicine, economics, information science, veterinary medicine, nursing, public policy, and other related professionals seek opportunities, through CDC fellowships, to broaden their knowledge, skills, and experience to improve the science and practice of public health. CDC fellows are assigned to state, tribal, local, and territorial public health agencies; federal government agencies, including CDC and HHS operational divisions, such as Centers for Medicare & Medicaid Services; and to nongovernmental organizations, including academic institutions, tribal organizations, and private public health organizations.

FMS provides an efficient and effective electronic mechanism for collecting and processing fellowship application data and fellowship host site assignment proposals; selecting qualified candidates; matching selected fellowship host site assignments with applicants; maintaining a current alumni database; generating reports; and documenting the impact of fellowships on alumni careers. FMS optimizes CDC's ability to provide continuous fellowship service delivery that builds and sustains public health capacity and helps to save lives and protect people from health threats. This proposed revision allows CDC to continue to use standardized electronic tools for streamlined collection of fellowship applications and fellowship assignment proposals, in the process collecting alumni information that will be used to document the impact of public health fellowships on career paths and on the science and practice of public health.

This request reflects a change in burden due to evolving fellowship requirements, increases in nonfederal respondents, and increases in information voluntarily submitted. The respondent types and burden hours for each data collection included in this request are limited to nonfederal applicants, alumni, and employees of public health agencies. The Preventive Medicine Residency and Fellowship (PMR/F) changed its program eligibility; applications for PMR/F are limited to only current CDC employees while host sites are limited to only nonfederal public health agencies. This request also reflects the elimination of the all data collections for two discontinued fellowships: The Public Health Prevention Service and The CDC Experience Applied Epidemiology Fellowship programs. Decreased burden associated with discontinuation of information collection from these fellowships is offset by increases in the number of respondents across all data collections, and increases in information submitted voluntarily by applicants in the past year when compared to amount of information submitted in previous years.

The annual burden table has been updated to reflect the number of respondents from non-federal fellowship applicants, public health agencies, and fellowship alumni.

There is no cost to respondents other than their time. The total estimated annual burden hours are 4,390.

Estimated Annualized Burden Hours
Type of respondents | Form name | Number of respondents | Number of responses per respondent | Average burden per response (in hrs.)
Fellowship applicants | FMS Application Module | 1,961 | 1 | 105/60
Fellowship alumni * | FMS Alumni Directory | 1,382 | 1 | 15/60
Public Health Agency or Organization Staff | FMS Host Site Module | 408 | 1 | 90/60
* Some alumni are deceased or cannot be located. Response burden assumes response from an individual responding alumnus, on average, every 3 years (which is likely an overestimate of frequency).

Leroy A. Richardson,
Chief, Information Collection Review Office, Office of Scientific Integrity, Office of the Associate Director for Science, Office of the Director, Centers for Disease Control and Prevention.

[FR Doc. 2014-28193 Filed 11-28-14; 8:45 am]

BILLING CODE 4163-18-P